DEPARTMENT OF DEFENSE

Department of the Army, Corps of Engineers

Intent To Prepare an Environmental Impact Statement (EIS) for the DeLong Mountain Terminal Navigation Improvements, Northwest Arctic Borough, Alaska

AGENCY: U.S. Army Corps of Engineers, DoD.

ACTION: Notice of intent.

SUMMARY: The Alaska District, U.S. Army Corps of Engineers, intends to prepare an EIS for navigation improvements for the DeLong Mountain Terminal in northwestern Alaska. The terminal loads ore concentrate from the world's largest zinc mine onto bulk carrier ships and imports fuels and supplies for the mine. Based on the results of a reconnaissance study, the Corps has determined there is a Federal interest in developing access for larger ships to the terminal to increase ore handling capacity for existing and future mining interests and to develop capability for a regional transportation hub. The Corps also has determined that the proposed action may have a significant effect on the quality of the human and natural environment. To comply with the requirements of the National Environmental Policy Act of 1969, as amended, the Corps will prepare an EIS. The Corps will also prepare a feasibility report.

FOR FURTHER INFORMATION CONTACT: For information about the project, alternatives, or the scoping process, contact Guy McConnell at (907) 753-2614 Fax (907) 753-2625, U.S. Army Engineer District, Alaska Attn: EN-CW-ER, P.O. Box 898, Anchorage AK 99506-0898. E-mail: guy.r.mcconnell@poa02.usace.army.mil.

SUPPLEMENTARY INFORMATION:

1. Authority

The feasibility study is authorized by a resolution adopted on December 2, 1970, by the Committee on Public Works of the U.S. House of Representatives. A reconnaissance study of navigation needs at DeLong Mountain Terminal and the region around it was completed in November 1999 and determined a Federal interest in a navigation improvement project.

2. Alternatives

A full range of alternatives addressing regional navigation needs will be identified during the scoping process and evaluated in the EIS and feasibility study. Principal project components and alternatives associated with them may include: mooring and loading facilities, which may be lengthened or expanded to increase capacity; a dredged channel to allow deep-draft ships to load ore concentrate directly and to unload directly without using lightering barges; an onshore airstrip and associated facilities to support transportation of fuel and goods to regional villages; and, a disposal area for dredged material. Additional alternatives identified during scoping, and the no-action alternative also will be evaluated.

3. Scoping Meetings and Opportunities to Comment

Public scoping meetings will be held in Kivalina, Noatak, and Kotzebue, Alaska. Additional scoping meetings may be held in Fairbanks and Anchorage, Alaska, if there is sufficient interest. Meetings will be scheduled for times and places to best fit local needs and will be announced in newspapers, on television and radio, and by mailed public notices, and other appropriate means. Interested parties are invited to comment at the meetings or in writing or by e-mail to the contact address listed earlier in this notice. The public scoping comment period will remain open for at lest 60 days after publication of this notice in the Federal Register. Scoping comments received more than 60 days after publication this notice will be given all possible consideration.

4. Issues To Be Considered

Issues and concerns will be identified during the scoping process and will become the basis for the analysis of alternatives and environmental consequences in the EIS. Initial coordination and review of other actions in the area indicate that the following will be of concern and will be subjects of the EIS: Potential effects of the project on marine mammals (seals, whales, walrus, and polar bears), including their movements, feeding, other behavior, and their availability to the people of the region who kill them for food and other uses; potential effects of dredging and dredged material disposal on currents, ice movement, and marine organisms; potential effects of increased power generation, moored ships, and fugitive dust on air quality; and potential for the Federal action to induce additional mining and other regional development.

5. Availability

The draft EIS is scheduled to be completed and released for public review in the spring of 2001.

Dated: February 23, 2000.
Guy R. McConnell,
Chief, Environmental Resources Section.

[FR Doc. 00-5838 Filed 3-9-00; 8:45 am]

BILLING CODE 3710-NL-M